DEPARTMENT OF HOUSING AND URBAN DEVELOPMENT

[Docket No. FR-5043-N-08]

Notice of Proposed Information Collection for Public Comment: The PATH Survey of Homebuilding Product Manufacturers

AGENCY: Office of the Policy Development and Research, HUD.

ACTION: Notice.

SUMMARY: The proposed information collection requirement described below will be submitted to the Office of Management and Budget (OMB) for review, as required by the Paperwork Reduction Act. The Department is soliciting public comments on the subject proposal.

DATES: Comments Due Date: October 23, 2006.

ADDRESSES: Interested persons are invited to submit comments regarding this proposal. Comments should refer to the proposal by name and/or OMB Control number and should be sent to: Reports Liaison Officer, Office of Policy Development and Research, Department of Housing and Urban Development, 451 7th Street, SW., Washington, DC 20410.

FOR FURTHER INFORMATION CONTACT: Dr. Carlos Martin, (202) 708-4370, extension 5845 for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology (e.g., permitting electronic submission of responses.)

This Notice also lists the following information:

Title of Proposal: The Survey of Homebuilding Product Manufacturers.

Description of the need for the information and proposed use: This request is for the clearance of a telephone survey instrument designed to assess the state of operational and organizational performance among homebuilding product manufacturers (both large and small) with regard to product development and technological innovation. The purposes of the survey implementation and analysis are: (1) To gauge through a national sample the kinds of internal organization and operations associated with homebuilding product manufacturers; (2) ascertain correlations between organizational type and formalization of product development; and (3) improve the activities of the Partnership for Advancing Technology in Housing based on the insight of the survey findings.

OMB Approval Number: Pending.

Agency form numbers: None.

Members of Affected Public: Individuals in homebuilding product manufacturing firms.

Estimation of the total number of hours needed to prepare the information collection including number of respondents, frequency of response, and hours of response: 150 individuals will be surveyed through the telephone survey (100 sampled from small manufacturers and 50 from large manufacturers). The average time to complete the phone survey is 25 minutes. Respondents will only be contacted once. Total burden hours are 62.5 for the survey.

Status of the proposed information collection: Pending OMB approval.

Authority: Section 3506 of the Paperwork Reduction Act of 1995, 44 U.S.C. Chapter 35, as amended.

Dated: August 15, 2006.
Darlene F. Williams,
Assistant Secretary for Policy Development and Research.

[FR Doc. E6-13993 Filed 8-23-06; 8:45 am]

BILLING CODE 4210-67-P